DEPARTMENT OF ENERGY

Federal Energy Regulatory Commission

[Docket Nos. ER08-637-000; ER08-637-001; ER08-637-004; ER08-637-005]

Midwest Independent Transmission System Operator, Inc.; Notice of Technical Conference

September 9, 2008.

Take notice that on November 12, 2008, a technical conference will be convened to consider issues related to the Midwest Independent Transmission System Operator, Inc.'s proposal to offer Market Coordination Service (Market Service), as discussed in the order issued June 13, 2008 in Docket Nos. ER08-637-000 and ER08-637-001.¹ The technical conference will be held in the Commission Meeting Room at the headquarters of the Federal Energy Regulatory Commission, 888 First Street NE., Washington, DC, 20426 from 9 a.m. to 4:30 p.m. (ET).

¹ Midwest Indep. Transmission Sys. Operator, Inc., 123 FERC ¶ 61,265, at P 155 (2008).

The technical conference will be divided into two sessions. The morning session will be led by the Commissioners and will address broad policy issues associated with Market Service. The afternoon session will be led by Commission staff and will address certain technical aspects of Market Service. Subsequent notices will be issued regarding the details of this technical conference.

FERC conferences are accessible under section 508 of the Rehabilitation Act of 1973. For accessibility accommodations please send an e-mail to accessibility@ferc.gov or call toll free 1-866-208-3372 (voice) or 202-208-1659 (TTY), or send a FAX to 202-208-2106 with the required accommodations.

Kimberly D. Bose,
Secretary.

[FR Doc. E8-21540 Filed 9-15-08; 8:45 am]

BILLING CODE 6717-01-P